NUCLEAR REGULATORY COMMISSION

[Docket Nos. 50-237 and 50-249; NRC-2024-0080]

Constellation Energy Generation, LLC; Dresden Nuclear Power Station, Units 2 and 3; Subsequent License Renewal and Record of Decision

AGENCY: Nuclear Regulatory Commission.

ACTION: Notice; issuance.

SUMMARY: The U.S. Nuclear Regulatory Commission (NRC) has issued Subsequent Renewed Facility Operating License Nos. DPR-19 and DPR-25 to Constellation Energy Generation, LLC (CEG, or the licensee), for Dresden Nuclear Power Station, Units 2 and 3 (Dresden). In addition, the NRC has prepared a record of decision (ROD) that supports the NRC's decision to issue Subsequent Renewed Facility Operating License Nos. DPR-19 and DPR-25.

DATES: The Subsequent Renewed Facility Operating License Nos. DPR-19 and DPR-25 were issued on December 16, 2025.

ADDRESSES: Please refer to Docket ID NRC-2024-0080 when contacting the NRC about the availability of information regarding this document. You may obtain publicly available information related to this document using any of the following methods:

• Federal Rulemaking Website: Go to https://www.regulations.gov and search for Docket ID NRC-2024-0080. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Mark Yoo, Office of Nuclear Reactor Regulation, U.S. Nuclear Regulatory Commission, Washington, DC 20555-0001; telephone: 301-415-8583; email: Mark.Yoo@nrc.gov.

SUPPLEMENTARY INFORMATION:

I. Discussion

Notice is hereby given that the NRC has issued Subsequent Renewed Facility Operating License Nos. DPR-19 and DPR-25 to CEG for Dresden. CEG is the operator of the facilities. Subsequent Renewed Facility Operating License Nos. DPR-19 and DPR-25 authorize operation of Dresden, Units 2 and 3, by CEG at reactor core power levels not in excess of 2,957 megawatts thermal, in accordance with the provisions of the Dresden subsequent renewed licenses and technical specifications. Notice is also given that the ROD that supports the NRC's decision to issue Subsequent Renewed Facility Operating License Nos. DPR-19 and DPR-25 is available in the “Availability of Documents” section of this document.

As discussed in the ROD and the final supplemental environmental impact statement (SEIS), published as NUREG-1437, Supplement 17, Second Renewal, “Generic Environmental Impact Statement for License Renewal of Nuclear Plants: Regarding Subsequent License Renewal for Dresden Nuclear Power Station, Units 2 and 3, Final Report,” dated September 2025, the final SEIS documents the NRC staff's environmental review, including the determination that the adverse environmental impacts of subsequent license renewal (SLR) for Dresden are not so great that preserving the option of SLR for energy planning decisionmakers would be unreasonable. The final SEIS conclusion is based on (1) information provided in the environmental report submitted by CEG, as supplemented, (2) the NRC staff's consultations with Federal, State, local, and Tribal agencies, (3) the NRC staff's independent environmental review, and (4) the NRC staff's consideration of public comments received during the scoping process and on the 2025 draft SEIS.

Dresden is a boiling water reactor site located near Morris, Illinois. CEG submitted its application for the subsequent renewed license, “Dresden Nuclear Power Station, Units 2 and 3—Subsequent License Renewal Application,” on April 17, 2024, as supplemented by letters through May 8, 2025 (see “Availability of Documents” section of this document). The NRC staff has determined that CEG's application complies with the standards and requirements of the Atomic Energy Act of 1954, as amended (the Act), and NRC's regulations. As required by the Act and NRC regulations in Chapter 1 of title 10 of the Code of Federal Regulations (10 CFR), the NRC has made appropriate findings, which are set forth in the subsequent renewed licenses.

A public notice of the NRC's acceptance for docketing of the subsequent renewed license application and an opportunity for a hearing was published in the Federal Register on June 24, 2024 (89 FR 52514). Further, a notice of intent to conduct environmental scoping was published on August 5, 2024 (89 FR 63450). On August 6, 2024, the NRC amended its environmental protection regulations by updating the Commission's 2013 findings on the environmental effects of renewing the operating license of a nuclear power plant. This final rule redefines the number and scope of the environmental issues that must be addressed during the review of each application for license renewal (LR) and specifically considers the environmental effects of SLR. As part of this update, the NRC issued Revision 2 to the LR Generic Environmental Impact Statement (GEIS) to account for new information and to address the impacts of initial license renewal as well as one 20-year period of SLR. The final rule became effective for NRC staff on September5,2024. On September 9, 2025, the NRC staff issued its Safety Evaluation (SE) concerning the Dresden subsequent license renewal application (SLRA). In May 2025, the NRC staff issued a draft SEIS for public comment, providing the preliminary results of the staff's environmental evaluation of Dresden's SLRA. A notice of availability of the draft SEIS was published in the Federal Register on May 30, 2025 (90 FR 23079). On September 3, 2025, the NRC staff issued a final SEIS, providing its final evaluation of the environmental impacts of Dresden's SLR; a notice of issuance was published in the Federal Register on September 12, 2025 (90 FR 44251).

For further details with respect to this action, see (1) CEG's SLRA for Dresden, dated April 17, 2024, as supplemented by letters dated through May 8, 2025; (2) the NRC's SE, dated September 9, 2025; (3) the NRC's final SEIS (NUREG-1437, Supplement 17, Second Renewal) for Dresden, SLR dated September 3, 2025; and (4) the NRC's ROD, dated December 16, 2025.

II. Availability of Documents

The documents identified in the following table are available to interested persons through ADAMS, as indicated.

Document description | ADAMS Accession No.
Dresden Nuclear Power Station, Units 2 and 3, Application for Renewed Operating License, dated April 17, 2024 | ML24108A007 (Package).
NUREG-1437, Revision 2, Volumes 1, 2, and 3, Generic Environmental Impact Statement for License Renewal of Nuclear Plants, dated August 1, 2024. | ML24087A133 (Package).
Supplement No. 1—Changes to the Dresden Nuclear Power Station, Units 2 and 3, Subsequent License Renewal Application, dated February 20, 2025 | ML25051A253 (Package).
Supplement No. 2—Changes to the Dresden Nuclear Power Station, Units 2 and 3, Subsequent License Renewal Application, dated March 13, 2025 | ML25072A153 (Package).
Responses to NRC Request for Additional Information Set 1 and Request for Confirmation of Information Sets 1 and 2, dated April 10, 2025 | ML25100A132 (Package).
Supplement No. 3—Changes to the Dresden Nuclear Power Station, Units 2 and 3, Subsequent License Renewal Application, dated April 28, 2025 | ML25118A278 (Package).
Response to NRC Request for Additional Information Set 2 and Request for Confirmation of Information Set 3, dated May 8, 2025 | ML25128A184 (Package).
NUREG-1437, Supplement 17, Second Renewal, “Generic Environmental Impact Statement for License Renewal of Nuclear Plants, Regarding Subsequent License Renewal for Dresden Nuclear Power Station, Units 2 and 3,” Draft Report for Comment, dated May 2025. | ML25132A151.
Safety Evaluation Related to the License Renewal of Dresden Nuclear Power Station, Units 2 and 3, dated September 10, 2025. | ML25251A146 (Package).
NUREG-1437, Supplement 17, Second Renewal, “Generic Environmental Impact Statement for License Renewal of Nuclear Plants, Supplement 17, Second Renewal, Regarding Subsequent License Renewal for Dresden Nuclear Power Station, Units 2 and 3, Final Report, dated September 2025. | ML25233A275.
Record of Decision—Subsequent License Renewal Application Review—Dresden Nuclear Power Station, Units 2 and 3, dated December 16, 2025. | ML25237A115.

Dated: December 16, 2025.
For the Nuclear Regulatory Commission.
Michele Sampson,
Director, Division of New and Renewed Licenses, Office of Nuclear Reactor Regulation.

[FR Doc. 2025-23283 Filed 12-17-25; 8:45 am]

BILLING CODE 7590-01-P